POSTAL SERVICE

39 CFR Part 111

Commercial Mail Receiving Agencies Clarification

AGENCY: Postal Service™.

ACTION: Proposed rule.

SUMMARY: The Postal Service is proposing to amend Mailing Standards of the United States Postal Service, Domestic Mail Manual (DMM®) to clarify Commercial Mail Receiving Agencies (CMRA) notary responsibilities for the addressee's signature.

DATES: Submit comments on or before January 29, 2024.

ADDRESSES: Mail or deliver written comments to the manager, Product Classification, U.S. Postal Service, 475 L'Enfant Plaza SW, Room 4446, Washington, DC 20260-5015. If sending comments by email, include the name and address of the commenter and send to PCFederalRegister@usps.gov, with a subject line of “CMRA Clarification”. Faxed comments are not accepted.

You may inspect and photocopy all written comments, by appointment only, at USPS® Headquarters Library, 475 L'Enfant Plaza SW, 11th Floor North, Washington, DC 20260. These records are available for review on Monday through Friday, 9 a.m.-4 p.m., by calling 202-268-2906.

FOR FURTHER INFORMATION CONTACT: Heidi Michel at (414) 239-2976, Clayton Gerber at (202) 449-8076, or Garry Rodriguez at (202) 268-7281.

SUPPLEMENTARY INFORMATION: All submitted comments and attachments are part of the public record and subject to disclosure. Do not enclose any material in your comments that you consider to be confidential or inappropriate for public disclosure.

The Postal Service is proposing to revise DMM subsection 508.1.8.3a3 to clarify that the notary public must be commissioned in a United States state, territory, possession, or the District of Columbia and to clarify the notary public's responsibilities with respect to the addressee's signature on PS Form 1583. This clarification is needed to establish that the notary public is domestically commissioned and to address particularities of some state notary public laws that do not authorize notaries public to attest a signature. The revision allows notaries public to recognize the PS Form 1583 applicant's acknowledged signature.

The proposed revision also clarifies that the addressee must sign or acknowledge his or her signature on the PS Form 1583 in the physical or virtual (in real-time audio and video) presence of the CMRA owner, manager, or authorized employee, or acknowledge his or her signature on the PS Form 1583 in the physical or virtual (in real-time audio and video) presence of a notary public.

These proposed clarifications are reflected in proposed corresponding revisions to the applicable provisions of PS Form 1583, including:

• Revising the notarial statement to read “Notary Public in and for the STATE OF ___, COUNTY OF ___. On this ___ day of ___, 20__, the applicant ___, who proved to me on the basis of satisfactory evidence to be the person whose name is subscribed to this application, appeared before me, and acknowledged his or her signature.”; and

• Adding the following statement to the Note on the second page of PS Form 1583: “The applicant must sign or acknowledge his or her signature in the physical or virtual (in real-time audio and video) presence of the agent or his or her authorized employee, or acknowledge his or her signature in the physical or virtual (in real-time audio and video) presence of a notary public commissioned in a United States state, territory, possession, or the District of Columbia.”.

After consideration of comments, and assuming that the Postal Service still intends to pursue these revisions as a final rule, the Postal Service will aim to implement any change effective February 1, 2024.

We believe this proposed revision will provide CMRA owners/managers with a more efficient process for accepting the PS Form 1583 and establishing mail delivery for a private mailbox (PMB) customer of the CMRA.

Although exempt from the notice and comment requirements of the Administrative Procedure Act (5 U.S.C. 553(b), (c)) regarding proposed rulemaking by 39 U.S.C. 410(a), the Postal Service invites public comment on the proposed revisions to Mailing Standards of the United States Postal Service, Domestic Mail Manual (DMM), incorporated by reference in the Code of Federal Regulations.

We will publish an appropriate amendment to 39 CFR part 111 to reflect these changes.

List of Subjects in 39 CFR Part 111

Administrative practice and procedure, Postal Service.

Accordingly, 39 CFR part 111 is proposed to be amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the Mailing Standards of the United States Postal Service, Domestic Mail Manual (DMM) as follows:

Mailing Standards of the United States Postal Service, Domestic Mail Manual (DMM)

* * * * *

500 Additional Mailing Services

* * * * *

508 Recipient Services

1.0 Recipient Options

* * * * *

1.8 Commercial Mail Receiving Agencies

* * * * *

1.8.3 Delivery to CMRA

Procedures for delivery to a CMRA are as follows:

* * * * *

[Revise the first sentence of item a3 to read as follows:]

The addressee must sign or acknowledge his or her signature in the physical or virtual (in real-time audio and video) presence of the CMRA owner or manager or authorized employee, or acknowledge his or her signature in the physical or virtual (in real-time audio and video) presence of a notary public commissioned in a United States state, territory, possession, or the District of Columbia. * * *

* * * * *

Colleen Hibbert-Kapler,
Attorney, Ethics and Legal Compliance.

[FR Doc. 2023-28296 Filed 12-28-23; 8:45 am]

BILLING CODE 7710-12-P